DEPARTMENT OF COMMERCE

International Trade Administration

[A-428-849]

Common Alloy Aluminum Sheet From Germany: Preliminary Results and Partial Rescission of Antidumping Duty Administrative Review; 2022-2023

AGENCY: Enforcement and Compliance, International Trade Administration, Department of Commerce.

SUMMARY: The U.S. Department of Commerce (Commerce) preliminarily determines that Speira GmbH (Speira), the sole respondent subject to this administrative review of the antidumping duty order on common alloy aluminum sheet from Germany, sold subject merchandise at less than normal value (NV) during the period of review (POR) April 1, 2022, through March 31, 2023. Interested parties are invited to comment on these preliminary results of the review.

DATES: Applicable April 25, 2024.

FOR FURTHER INFORMATION CONTACT: Jeff Pedersen, AD/CVD Operations, Office IV, Enforcement and Compliance, International Trade Administration, U.S. Department of Commerce, 1401 Constitution Avenue NW, Washington, DC 20230; telephone: (202) 482-2769.

SUPPLEMENTARY INFORMATION:

Background

On June 12, 2023, Commerce initiated an administrative review of the antidumping duty order on common alloy aluminum sheet from Germany covering the POR.¹ On December 27, 2023, Commerce extended the deadline for issuing the preliminary results of this review until April 19, 2024.²

¹ See Initiation of Antidumping and Countervailing Duty Administrative Reviews, 88 FR 38021 (June 12, 2023); see also Common Alloy Aluminum Sheet from Bahrain, Brazil, Croatia, Egypt, Germany, India, Indonesia, Italy, Oman, Romania, Serbia, Slovenia, South Africa, Spain, Taiwan, and the Republic of Turkey: Antidumping Duty Orders, 86 FR 22139 (April 27, 2021) (Order).

² See Memorandum, “Extension of Deadline for the Preliminary Results of Antidumping Duty Administrative Review; 2022-2023,” dated December 27, 2023.

For a complete description of the events that followed the initiation of this review, see the Preliminary Decision Memorandum.³ A list of the topics discussed in the Preliminary Decision Memorandum is attached as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

³ See Memorandum, “Decision Memorandum for Preliminary Results of the 2022-2023 Administrative Review of the Antidumping Duty Order on Common Alloy Aluminum Sheet from Germany,” dated concurrently with, and hereby adopted by, this notice (Preliminary Decision Memorandum).

Scope of the Order

The products covered by the Order are common alloy aluminum sheet, which is a flat-rolled aluminum product having a thickness of 6.3 mm or less, but greater than 0.2 mm, in coils or cut-to-length, regardless of width. Common alloy sheet within the scope of the Order includes both not clad aluminum sheet, as well as multi-alloy, clad aluminum sheet. Common alloy sheet is currently classifiable under Harmonized Tariff Schedule of the United States (HTSUS) subheadings 7606.11.3060, 7606.11.6000, 7606.12.3096, 7606.12.6000, 7606.91.3095, 7606.91.6095, 7606.92.3035, and 7606.92.6095. Further, merchandise that falls within the scope of the Order may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of the Order is dispositive. For a full description of the scope of the Order, see the Preliminary Decision Memorandum.

Partial Rescission of the Administrative Review

Pursuant to 19 CFR 351.213(d)(1), Commerce will rescind an administrative review, in whole, or in part, with respect to specific companies, if all parties who requested the review withdraw their requests within 90 days of publication of the notice of initiation of the requested review in the Federal Register. All parties timely withdrew their review requests for the following companies: (1) Alanod GmbH & Co. KG (Alanod); (2) Constellium Rolled Products Singen GmbH & Co. KG (Constellium Rolled); (3) Constellium Singen GmbH (Constellium Singen); and (4) Novelis Deutschland GmbH (Novelis). Therefore, consistent with 19 CFR 351.213(d)(1), Commerce is rescinding this review, in part, with respect to these companies.

Methodology

Commerce is conducting this review in accordance with section 751(a)(1)(B) of the Tariff Act of 1930, as amended (the Act). We calculated export prices and NV for Speira in accordance with sections 772 and 773 of the Act, respectively. For a full description of the methodology underlying our preliminary results of review, see the Preliminary Decision Memorandum.

Preliminary Results of Review

We are assigning the following weighted-average dumping margin to the company listed below for the period April 1, 2022, through March 31, 2023:

Producer or exporter | Weighted- average dumping margin (percent)
Speira GmbH ⁴ | 6.44
⁴ Formerly known as Hydro Aluminium Rolled Products GmbH. See Common Alloy Aluminum Sheet from Germany: Preliminary Results of Antidumping Duty Administrative Review; 2020-2022, 88 FR 30087 (May 10, 2023, unchanged in Common Alloy Aluminum Sheet from Germany: Final Results of Antidumping Duty Administrative Review; 2020-2022, 88 FR 77556 (November 13, 2023).

Disclosure and Public Comment

Commerce intends to disclose, under administrative protective order, its calculations and analysis performed for these preliminary results of review to parties to the proceeding within five days of any public announcement of the preliminary results or, if there is no public announcement, within five days of the date of publication of this notice in the Federal Register in accordance with 19 CFR 351.224(b).

Pursuant to 19 CFR 351.309(c), interested parties may submit case briefs to Commerce no later than 30 days after the date of publication of this notice in the Federal Register. Rebuttal briefs, limited to issues raised in the case briefs, may be filed not later than five days after the date for filing case briefs.⁵ Interested parties who submit case briefs or rebuttal briefs in this review must submit: (1) a table of contents listing each issue; and (2) a table of authorities.⁶

⁵ See 19 CFR 351.309(d); see also Administrative Protective Order, Service, and Other Procedures in Antidumping and Countervailing Duty Proceedings, 88 FR 67069, 67077 (September 29, 2023) (APO and Service Final Rule).

⁶ See 19 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.⁷ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).⁸

⁷ We use the term “issue” here to describe an argument that Commerce would normally address in a comment of the Issues and Decision Memorandum.

⁸ See APO and Service Final Rule, 88 FR at 67077.

Pursuant to 19 CFR 351.310(c), interested parties who wish to request a hearing must submit a written request for a hearing to the Assistant Secretary for Enforcement and Compliance, filed electronically via ACCESS. Requests for a hearing should contain: (1) the requesting party's name, address, and telephone number; (2) the number of individuals associated with the requesting party that will attend the hearing and whether any of those individuals is a foreign national; and (3) a list of the issues that the party intends to discuss at the hearing. Issues raised in the hearing will be limited to those raised in the respective case and rebuttal briefs. An electronically filed hearing request must be received successfully in its entirety by Commerce's electronic records system, ACCESS, by 5 p.m. Eastern Time within 30 days after the date of publication of this notice in the Federal Register. If a request for a hearing is made, Commerce will announce the date and time of the hearing. Parties should confirm the date and time of the hearing two days before the scheduled hearing date.

Final Results of Review

Unless otherwise extended, Commerce intends to issue the final results of this administrative review, which will include the results of its analysis of issues raised in any briefs, within 120 days of publication of these preliminary results of review in the Federal Register, pursuant to section 751(a)(3)(A) of the Act.⁹

⁹ See section 751(a)(3)(A) of the Act; see also 19 CFR 351.213(h)(1).

Assessment Rates

In accordance with section 751(a)(2)(C) of the Act, the assessment of antidumping duties on entries of merchandise covered by the review shall be based on the final results of this review.¹⁰ Therefore, upon issuance of the final results of this review, Commerce will determine, and U.S. Customs and Border Protection (CBP) shall assess, antidumping duties on all appropriate entries of subject merchandise covered by this review in accordance with 19 CFR 351.212(b)(1).

¹⁰ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

We will calculate importer-specific assessment rates for Speira, in accordance with 19 CFR 351.212(b)(1).¹¹ Because Speira does not know, and thus did not report, entered values, we will calculate importer-specific per-unit assessment rates for the company by dividing the total amount of dumping calculated in the final results of this review for all reviewed U.S. sales to the importer by the total quantity of those sales. While we will calculate estimated ad valorem importer-specific assessment rates to determine whether the per-unit assessment rates are de minimis, we will report the per-unit assessment rates to CBP. ¹² Where either the respondent's ad valorem weighted-average dumping margin is zero or de minimis, or an importer-specific ad valorem assessment rate is zero or de minimis,¹³ we will instruct CBP to liquidate the appropriate entries without regard to antidumping duties.

¹¹ We applied the assessment rate calculation method adopted in Antidumping Proceedings: Calculation of the Weighted-Average Dumping Margin and Assessment Rate in Certain Antidumping Proceedings: Final Modification, 77 FR 8101 (February 14, 2012).

¹² See 19 CFR 351.212(b)(1).

¹³ See 19 CFR 351.106(c)(2).

Pursuant to a refinement to Commerce's assessment practice, where sales of subject merchandise that was produced or exported by an individually examined respondent were not reported in the U.S. sales data submitted by the respondent, but the merchandise was entered for consumption in the United States during the POR, we will instruct CBP to liquidate any entries of such merchandise at the all-others rate (i.e., 49.40 percent) if there is no rate for the intermediate company(ies) involved in the transaction.¹⁴

¹⁴ For a full discussion of this practice, see Antidumping and Countervailing Duty Proceedings: Assessment of Antidumping Duties, 68 FR 23954 (May 6, 2003).

Because Commerce is rescinding this review with respect to Alanod, Constellium Rolled, Constellium Singen, and Novelis, we will instruct CBP to assess antidumping duties on all appropriate entries of subject merchandise during the POR from these companies at rates equal to the cash deposit rate for estimated antidumping duties that was required at the time of entry, or withdrawal from warehouse, for consumption, in accordance with 19 CFR 351.212(c)(1)(i). Commerce intends to issue its rescission instructions to CBP no earlier than 35 days after the date of publication of this notice in the Federal Register.

Cash Deposit Requirements

The following cash deposit requirements will be in effect for all shipments of subject merchandise entered, or withdrawn from warehouse, for consumption on or after the date of publication of the notice of the final results of this administrative review in the Federal Register, as provided for by section 751(a)(2)(C) of the Act: (1) the cash deposit rate for Speira will be equal to the weighted-average dumping margin established for the company in the final results of this review, except if the weighted-average dumping margin is less than 0.50 percent, and, therefore, de minimis within the meaning of 19 CFR 351.106(c)(1), the cash deposit rate will be zero; (2) for previously investigated or reviewed exporters that are not covered by this review, the cash deposit rate will continue to be the company's cash deposit rate from the most recently completed segment of the proceeding in which it was examined; (3) if the exporter is not covered by this review, and does not have a cash deposit rate from a completed segment of this proceeding, but the producer of the subject merchandise does have a cash deposit rate, then the cash deposit rate will be the producer's cash deposit rate from the most recently completed segment of the proceeding in which it was examined; and (4) the cash deposit rate for all other producers or exporters will continue to be 49.40 percent, the all-others rate established in the less-than-fair-value investigation.¹⁵ These cash deposit requirements, when imposed, shall remain in effect until further notice.

¹⁵ See Common Alloy Aluminum Sheet from Germany: Final Determination of Sales at Less Than Fair Value, 86 FR 13318 (March 8, 2021).

Notification to Importers

This notice serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results of review in accordance with sections 751(a)(1) and 777(i)(l) of the Act, and 19 CFR 351.213 and 351.221(b)(4).

Dated: April 19, 2024.
Ryan Majerus,
Deputy Assistant Secretary for Policy and Negotiations, performing the non-exclusive functions and duties of the Assistant Secretary for Enforcement and Compliance.

Appendix—List of Sections in the Preliminary Decision Memorandum

I. Summary

II. Background

III. Scope of the Order

IV. Discussion of the Methodology

V. Currency Conversion

VI. Recommendation

[FR Doc. 2024-08895 Filed 4-24-24; 8:45 am]

BILLING CODE 3510-DS-P